DEPARTMENT OF LABOR

Employment and Training Administration

[TA-W-50,396 and TA-W-50,396A]

Sherwood Tool, a Division of Sweetheart Cup Company, Inc., Currently Known as Sweetheart Cup Company, Inc.; Sherwood Tool Facility Commercial Manufactured Parts Department, Kensington, CT; Sherwood Tool, a Division of Sweetheart Cup Company, Inc., Currently Known as Sweetheart Cup Company, Inc., Sherwood Tool Facility, Assembled Equipment Department, Kensington, CT; Amended Certification Regarding Eligibility To Apply for Worker Adjustment Assistance

In accordance with section 223 of the Trade Act of 1974 (19 U.S.C. 2273) the Department of Labor issued a Certification of Eligibility to Apply for Worker Adjustment Assistance on March 14, 2003, applicable to workers of Sherwood Tool, a Division of Sweetheart Cup Company, Inc., Commercial Manufactured Parts Division and Assembled Equipment Division, Kensington, Connecticut. The notice was published in the Federal Register on April 2, 2003 (68 FR 16094).

At the request of the State agency, the Department reviewed the certification for workers of the subject firm. Workers at the Commercial Manufactured Parts Department are engaged in the production of spare parts for paper converting equipment. Workers at the Assembled Equipment Department are engaged in the production of paper converting equipment. Workers are separately identifiable by their Departments.

New information shows that as the result of a change in ownership, some workers separated from employment at the subject firm had their wages reported under a separate unemployment insurance (UI) tax account for Sweetheart Cup Company, Inc., Sherwood Tool Facility.

Accordingly, the Department is amending the certification to properly reflect this matter.

The intent of the Department's certification is to include all workers of Sherwood Tool, a Division of Sweetheart Cup Company, Inc., currently known as Sweetheart Cup Company, Inc., Sherwood Tool Facility, Commercial Manufactured Parts Department and Assembled Equipment Department, Kensington, Connecticut, who were adversely affected by a shift in production to Mexico and Canada.

The amended notice applicable to TA-W-50,396 and TA-W-50,396A are hereby issued as follows:

All workers of Sherwood Tool, a Division of Sweetheart Cup Company, Inc., currently known as Sweetheart Cup Company, Inc., Sherwood Tool Facility, Commercial Manufactured Parts Department, Kensington, Connecticut, engaged in employment related to the production of spare parts for paper converting equipment (TA-W-50,396), and workers of Sherwood Tool, a Division of Sweetheart Cup Company, Inc., currently known as Sweetheart Cup Company, Inc., Sherwood Tool Facility, Assembled Equipment Department, Kensington, Connecticut, engaged in employment related to the production of paper converting equipment (TA-W-50,396A), who became totally or partially separated from employment on or after December 11, 2001, through March 14, 2005, are eligible to apply for adjustment assistance under section 223 of the Trade Act of 1974.

Signed at Washington, DC, this 22nd day of June, 2004.
Linda G. Poole,
Certifying Officer, Division of Trade Adjustment Assistance.

[FR Doc. 04-14921 Filed 6-30-04; 8:45 am]

BILLING CODE 4510-30-P